DEPARTMENT OF JUSTICE

Notice of Lodging of Proposed Consent Decree Under the Clean Water Act

On November 19, 2014, the Department of Justice lodged a proposed Consent Decree with the United States District Court for the Northern District of Ohio in the lawsuit entitled United States and the State of Ohio v. City of Lima, Ohio, Civil Action No. 3:14-cv-02551 (N.D. Ohio).

A Complaint that was filed along with the proposed Consent Decree alleges that the City of Lima (“Lima”) has violated the Clean Water Act and its implementing regulations, certain terms and conditions of Lima's National Pollutant Discharge Elimination System permit, and corresponding requirements under Ohio state law by discharging untreated sewage from its combined sewer system, partially treated wastewater that has bypassed full wastewater treatment, and raw wastewater from its sanitary sewer system into the environment. The proposed Consent Decree would resolve the claims alleged in the Complaint in exchange for Lima's commitments to: (i) Make major upgrades and improvements to its wastewater treatment plant and sewer systems; (ii) pay a $49,000 civil penalty; and (iii) perform a Supplemental Environmental Project that will make environmental enhancements to areas along the banks of the Ottawa River in Lima, at an expected cost of approximately $218,000.

The publication of this notice opens a period for public comment on the proposed Consent Decree. Comments should be addressed to the Assistant Attorney General, Environment and Natural Resources Division, and should refer to United States and the State of Ohio v. City of Lima, Ohio, D.J. Ref. No. 90-5-1-1-08433. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decrees may be examined and downloaded at this Justice Department Web site: http://www.usdoj.gov/enrd/Consent_Decrees.html. We will provide a paper copy of the Consent Decree upon written request and payment of reproduction costs (at 25 cents per page). Please mail your request and a check or money order payable to the United States Treasury to: Consent Decree Library, U.S. DOJ—ENRD, P.O. Box 7611, Washington, DC 20044-7611. The cost for a paper copy is $16.00 for the Consent Decree only or $23.25 for the Consent Decree and its Appendices.

Randall M. Stone,
Acting Assistant Section Chief, Environmental Enforcement Section, Environment and Natural Resources Division.

[FR Doc. 2014-27831 Filed 11-24-14; 8:45 am]

BILLING CODE 4410-15-P